ENVIRONMENTAL PROTECTION AGENCY

[ER-FRL-9009-5]

Environmental Impacts Statements; Notice of Availability

Responsible Agency: Office of Federal Activities, General Information (202) 564-7146 or http://www.epa.gov/compliance/nepa/.

Weekly receipt of Environmental Impact Statements.

Filed 05/28/2013 Through 05/31/2013.

Pursuant to 40 CFR 1506.9.

Notice

Section 309(a) of the Clean Air Act requires that EPA make public its comments on EISs issued by other Federal agencies. EPA's comment letters on EISs are available at: http://www.epa.gov/compliance/nepa/eisdata.html.

EIS No. 20130149, Final EIS, FRA, IA, Chicago to Council Bluffs-Omaha Regional Passenger Rail System Planning Study Tier 1, Review Period Ends: 07/08/2013, Contact: Andrea Martin 202-493-6201.

EIS No. 20130150, Final Supplement, FTA, MN, Central Corridor Light Rail Transit Project, Construction-Related Potential Impacts on Business Revenues, Review Period Ends: 07/08/2013, Contact: Maya Sarna (202) 366-5811.

EIS No. 20130151, Final EIS, BR, CA, Klamath Facilities Removal, Review Period Ends: 07/08/2013, Contact: Elizabeth Vasquez 916-978-5040.

EIS No. 20130152, Final EIS, USACE, CA, Sierra Vista Specific Plan (SPK-2006-01050), Review Period Ends: 07/08/2013, Contact: Kathy Norton 916-557-5260.

EIS No. 20130153, Draft EIS, FTA, CA, Downtown San Francisco Ferry Terminal Expansion Project, Comment Period Ends: 07/30/2013, Contact: Mary Nguyen 213-202-3960.

EIS No. 20130154, Final EIS, FTA, WA, Mukilteo Multimodal Project, Review Period Ends: 07/08/2013, Contact: Daniel G. Drais 206-220-7954.

EIS No. 20130155, Draft EIS, USFS, ID, Beaver Creek Project, Comment Period Ends: 07/23/2013, Contact: Lauren Goschke 208-769-3046.

EIS No. 20130156, Draft EIS, BR, NV, Newlands Project Resource Management Plan, Comment Period Ends: 07/29/2013, Contact: Bob Edwards 775-882-7592.

EIS No. 20130157, Draft Supplement, FTA, HI, Honolulu Rail Transit Project (formerly the Honolulu High-Capacity Transit Corridor Project), Comment Period Ends: 07/22/2013, Contact: Mary Nguyen 213-202-3960.

EIS No. 20130158, Final EIS, NPS, TX, Guadalupe Mountains National Park General Management Plan, Review Period Ends: 07/08/2013, Contact: Dennis A. Vasquez 915-828-3151.

EIS No. 20130159, Final Supplement, USACE, IN, Indianapolis North Flood Damage Reduction Project, Review Period Ends: 07/08/2013, Contact: Bonnie Jennings 502-315-6871.

Amended Notices

EIS No. 20130148, Draft Supplement, USACE, FL, Jacksonville Harbor Navigation, Comment Period Ends: 07/15/2013, Contact: Paul Stodola 904-232-3271.

Revision to FR Notice Published 5/31/13; Change Agency Contact Name and Phone Number to Paul Stodola 904-232-3271.

Dated: June 4, 2013.
Aimee S. Hessert,
Deputy Director, NEPA Compliance Division, Office of Federal Activities.

[FR Doc. 2013-13597 Filed 6-6-13; 8:45 am]

BILLING CODE 6560-50-P